DEPARTMENT OF AGRICULTURE

U.S. Codex Office

Codex Alimentarius Commission: Meeting of the Codex Committee on Pesticide Residues

AGENCY: U.S. Codex Office, USDA.

ACTION: Notice of public meeting and request for comments.

SUMMARY: The U.S. Codex Office is sponsoring a public meeting on June 2, 2022. The objective of the public meeting is to provide information and receive public comments on agenda items and draft United States (U.S.) positions to be discussed at the 53rd Session of the Codex Committee on Pesticide Residues (CCPR) of the Codex Alimentarius Commission (CAC), which will convene virtually, July 4-July 13, 2022. The U.S. Manager for Codex Alimentarius and the Acting Deputy Under Secretary for Trade and Foreign Agricultural Affairs recognize the importance of providing interested parties the opportunity to obtain background information on the 53rd Session of the CCPR and to address items on the agenda.

DATES: The public meeting is scheduled for June 2, 2022, from 2:00-4:00 p.m. EDT.

ADDRESSES: The public meeting will take place via Video Teleconference only. Documents related to the 53rd Session of the CCPR will be accessible via the internet at the following address: https://www.fao.org/fao-who-codexalimentarius/meetings/detail/en/?meeting=CCPR&session=53. Captain David Miller, U.S. Delegate to the 53rd Session of the CCPR, invites U.S. interested parties to submit their comments electronically to the following email address: miller.davidj@epa.gov.

Registration: Attendees must register to attend the public meeting here: https://www.zoomgov.com/meeting/register/vJItc-6tpzgjHHHmxmTPl2ykA0BfwK2icPQ. After registering, you will receive a confirmation email containing information about joining the meeting.

For Further Information about the 53rd Session of the CCPR, contact U.S. Delegate, Captain David Miller, miller.davidj@epa.gov, +1 (703) 305-5352.

For Further Information about the public meeting Contact: U.S. Codex Office, 1400 Independence Avenue SW, Room 4861, South Agriculture Building, Washington, DC 20250. Phone (202) 720-7760, Fax: (202) 720-3157, Email: uscodex@usda.gov

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure fair practices in the food trade.

The Terms of Reference of the Codex Committee on Pesticide Residues (CCPR) are:

(a) To establish maximum limits for pesticide residues in specific food items or in groups of food;

(b) to establish maximum limits for pesticide residues in certain animal feeding stuffs moving in international trade where this is justified for reasons of protection of human health;

(c) to prepare priority lists of pesticides for evaluation by the Joint FAO/WHO Meeting on Pesticide Residues (JMPR);

(d) to consider methods of sampling and analysis for the determination of pesticide residues in food and feed;

(e) to consider other matters in relation to the safety of food and feed containing pesticide residues; and,

(f) to establish maximum limits for environmental and industrial contaminants showing chemical or other similarity to pesticides, in specific food items or groups of food.

The CCPR is hosted by China. The United States attends the CCPR as a member country of Codex.

Issues To Be Discussed at the Public Meeting

The following items from the forthcoming Agenda for the 53rd Session of the CCPR will be discussed during the public meeting:

• Adoption of the Agenda

• Appointment of Rapporteurs

• Matters referred to CCPR by CAC and/or other Codex subsidiary bodies

• Matters of interest arising from FAO and WHO

• Matters of interest arising from other international organizations

• Report on items of general consideration arising from the 2021 JMPR regular meeting

• Report on responses to specific concerns raised by CCPR arising from the 2021 JMPR regular meeting

• Proposed Maximum Residue Limits (MRLs) for pesticides in food and feed

• Revision of the Classification of Food and Feed (CXM 4/1989) on the following:

(i) The issue of okra and an appropriate representative commodity, taking into account monitoring data submitted.

(ii) work on edible animal tissues (including edible offal) in collaboration with the Codex Committee on Residues of Veterinary Drugs in Foods (CCRVDF) Electronic Working Group (EWG) on edible offal.

(iii) consideration of Class B, Primary Food Commodities of Animal Origin and Class E, Processed Foods of Animal Origin.

• Proposed Draft Guidelines for compounds of low public health concern that could be exempted from the establishment of Codex maximum residue limits for pesticides (CXLs)

• Discussion Paper on the review of mass spectrometry provisions in the Guidelines on the Use of Mass Spectrometry for the Identification, Confirmation and Quantitative Determination of Pesticide Residues (CXG 56-2005) and the Guidelines on Performance Criteria of Pesticide Residues in Food and Feed (CXG 90-2017)

• Discussion paper on monitoring the purity and stability of certified reference material of multi-class pesticides during prolonged storage

• Discussion paper on engagement of JMPR in parallel reviews of new compounds

• Discussion paper on the management of unsupported compounds without public health concerns scheduled for periodic review by JMPR

• National registrations of pesticides (National Registration Database for Pesticides for Periodic Review by JMPR)

• Establishment of CCPR Schedules and Priority Lists for the evaluation of pesticides by JMPR

Public Meeting

At the June 2, 2022, public meeting, draft U.S. positions on the agenda items will be described and discussed, and attendees will have the opportunity to pose questions and offer comments. Written comments may be offered at the meeting or sent to Captain David Miller, U.S. Delegate for the 53rd Session of the CCPR (see ADDRESSES). Written comments should state that they relate to activities of the 53rd Session of the CCPR.

Additional Public Notification

Public awareness of all segments of rulemaking and policy development is important. Consequently, the U.S. Codex Office will announce this Federal Register publication on-line through the USDA web page located at: https://www.usda.gov/codex, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at https://www.usda.gov/sites/default/files/documents/ad-3027.pdf, or write a letter signed by you or your authorized representative. Send your completed complaint form or letter to USDA by mail, fax, or email.

Mail: U.S. Department of Agriculture, Director, Office of Adjudication, 1400 Independence Avenue SW, Washington, DC 20250-9410.

Fax: (202) 690-7442.

Email: program.intake@usda.gov.

Persons with disabilities who require alternative means for communication (Braille, large print, audiotape, American Sign Language, etc.) should contact USDA's TARGET Center at (202) 720-2600 (voice and TDD).

Mary Frances Lowe,
U.S. Manager for Codex Alimentarius.

[FR Doc. 2022-04342 Filed 3-1-22; 8:45 am]

BILLING CODE P